DEPARTMENT OF HOMELAND SECURITY

U.S. Customs and Border Protection

Notice of Reinstatement of Customs Broker Licenses

AGENCY: U.S. Customs and Border Protection, Department of Homeland Security.

ACTION: Reinstatement of customs broker licenses that were revoked.

SUMMARY: This document announces that certain customs brokers' licenses that have previously been revoked by operation of law have been reinstated and are currently active.

FOR FURTHER INFORMATION CONTACT: Craig Briess, International Trade Specialist, Broker Management Branch, Office of International Trade, (202) 863-6083.

SUPPLEMENTARY INFORMATION: In a notice published in the Federal Register (76 FR 71584) on November 18, 2011, U.S. Customs and Border Protection revoked customs brokers' licenses by operation of law without prejudice pursuant to section 641 of the Tariff Act of 1930, as amended (19 U.S.C. 1641), and section 111.30(d) of title 19 of the Code of Federal Regulations (19 CFR 111.30(d)). The following customs brokers' licenses that were revoked in that notice have been reinstated and are currently active.

Last name | First name | License No. | Port of issuance
Resendez | Aquiles | 06977 | Laredo.
Galindo | Sergio | 12335 | Laredo.

Dated: March 6, 2014.
Richard F. DiNucci,
Acting Assistant Commissioner, Office of International Trade.

[FR Doc. 2014-05242 Filed 3-10-14; 8:45 am]

BILLING CODE 9111-14-P